SELECTIVE SERVICE SYSTEM

Privacy Act of 1974; System of Records

AGENCY: Selective Service System

ACTION: Notice of a modified system of records.

SUMMARY: Selective Service System (SSS) has amended an existing system of records subject to the Privacy Act of 1974. This action is necessary to meet the requirements of the Privacy Act to publish in the Federal Register notice of the existence and character of the system of records maintained by the agency. The Registration, Compliance and Verification (RCV) system is an intranet application used by only authorized SSS' personnel. It provides a central repository for all data related to active registrants and potential violators.

DATES: The changes will become effective on May 15, 2025.

ADDRESSES: Written comments must be sent to Acting Chief Information Officer, Office of the Information Technology Operations Directorate, Selective Service System, 1501 Wilson Boulevard, Arlington, Virginia 22209-2425.

FOR FURTHER INFORMATION CONTACT: For further inquiries regarding this amended SORN, you may contact Mr. Daniel A. Lauretano, Sr., General Counsel and Federal Register Liaison, Phone: (703) 605-4012. Email: Daniel.Lauretano@sss.gov, Selective Service System, 1501 Wilson Boulevard, Arlington, Virginia 22209-2425.

SUPPLEMENTARY INFORMATION: This notice serves to update and amend the Registration, Compliance and Verification (RCV) System as a result of being refactored from an on-premises application to an AWS Cloud-hosted application. No changes are being made to the underlying data or what is stored. In addition to the SSS-19 Registration, Compliance and Verification (RCV) system's Safeguard, employees access the application through a secure, role-based user interface. Access is managed using unique user IDs and strong, multi-factored authentication (MFA) credentials, with passwords adhering to modern security standards. All authentication data is encrypted in transit and at rest, and access is governed by least-privilege principles to ensure compliance with current data security best practices.

SYSTEM NAME AND NUMBER:

Registration, Compliance and Verification (RCV) System, SSS-19.

SECURITY CLASSIFICATION:

Unclassified.

SYSTEM LOCATION:

National Headquarters, Selective Service System, 1501 Wilson Boulevard, Arlington, VA 22209-2425.

FedRAMP Authorized Amazon Web Services (AWS) US East/West cloud services facility at 410 Terry Ave. N, Seattle, WA 98109-5210.

SYSTEM MANAGER(S):

Director of Selective Service, 1501 Wilson Boulevard, Arlington, VA 22209-2425, Attn: Records Manager

CATEGORIES OF INDIVIDUALS COVERED BY THE SYSTEM:

(a) Current Registrants—individuals who are registered with SSS, (b) differed Registrants—individuals who have submitted the request to register but have not reached the minimum registration age and are in a delayed status, (c) not-in-Compliance Potential Registrants—individuals who have not registered yet but still have a chance to do so until they reach a maximum registration age, (d) not-in-Compliance Potential Violators—individuals who have not registered and have already reached a maximum registration age, and (e) Exempt records—individuals who were granted an exemption from registration.

CATEGORIES OF RECORDS IN THE SYSTEM:

Maintains the following information: (a) First Name, (b) Last Name, (c) Middle Name, (d) Suffix, (e) Social Security Number, (f) Date of Birth, (g) Street Address, (h) Email Address, (i) Selective Service Number, and (j) Phone number.

POLICIES AND PRACTICES FOR STORAGE OF RECORDS:

Electronic records are stored in the RCV database on Amazon cloud. Old supporting documents for the registrants are stored: (a) in a microfilm and (b) scanned and uploaded in the Electronic Management System (ECM).

ADMINISTRATIVE, TECHNICAL, AND PHYSICAL SAFEGUARDS:

Employees access the application through a secure, role-based user interface. Access is managed using unique user IDs and strong, multi-factored authentication (MFA) credentials, with passwords adhering to modern security standards. All authentication data is encrypted in transit and at rest, and access is governed by least-privilege principles to ensure compliance with current data security best practices.

HISTORY:

Document Citation: 82 FR 29971 Document Number: 2017-13771.

Dated: May 12, 2025.
Alma Cruz,
Senior Agency Official for Privacy, Selective Service System.

[FR Doc. 2025-08659 Filed 5-14-25; 8:45 am]

BILLING CODE P